DEPARTMENT OF TRANSPORTATION

Federal Railroad Administration

[Docket Number FRA-2014-0085]

Petition for Waiver of Compliance

In accordance with Part 211 of Title 49 Code of Federal Regulations (CFR), this document provides the public notice that by a document dated, June 10, 2014, the Association of American Railroads, on behalf of CSX Transportation, Inc., the National Railroad Passenger Corporation, Norfolk Southern Railway Company, and Union Pacific Railroad Company, (collectively, “petitioners”) petitioned the Federal Railroad Administration (FRA) for a waiver of compliance from certain provisions of the Federal railroad safety regulations contained at 49 CFR 236.586, Daily or after trip test, and § 236.588, Periodic test. Section 236.586(a) provides that, except where tests prescribed by § 236.588 are performed at intervals of not more than 2 months, each locomotive equipped with an automatic cab signal or train stop or train control device operating in equipped territory shall be inspected for damage to the equipment and tested at least once each calendar day or within 24 hours before departure upon each trip. Section 236.588 provides that, except as provided in § 236.586, periodic test of the automatic train stop, train control, or cab signal apparatus shall be made at least once every 92 days, and on multiple-unit cars as specified by the carrier, subject to approval by FRA. The petitioners request to be permitted to increase the time between inspections to 184 days for a 5-year period. FRA assigned the petition Docket Number FRA-2014-0085.

The petitioners note that today's automatic train stop, train control, and cab signal apparatus use microprocessor-based technology. This technology provides enhanced safety because the microprocessor-based system has diagnostics that monitor the functioning of cab signal equipment and records faults, particularly with respect to features relevant to the periodic inspection. Major faults are instantly addressed; minor faults are addressed through later data analysis. In some cases, railroads have the capability of analyzing the data remotely, without the need for the locomotive to be shopped; and if the system detects a failure, the system goes into fail-safe mode and triggers a penalty air brake application.

Performing signal inspections pursuant to 49 CFR 236.588 in conjunction with and under the same schedule as the locomotive inspections under 49 CFR 229.23(b) would increase efficiency without compromising safety.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 27, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on September 4, 2014.
Ron Hynes,
Director, Office of Technical Oversight.

[FR Doc. 2014-21612 Filed 9-10-14; 8:45 am]

BILLING CODE 4910-06-P